DEPARTMENT OF HEALTH AND HUMAN SERVICES

Centers for Medicare & Medicaid Services

[Document Identifier: CMS-10202]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: New Collection; Title of Information Collection: Data Collection for Administering the Medicare Health Improvement Survey; Use: This beneficiary survey is to obtain information about beneficiary behavior, physical functioning and satisfaction with the care management programs data required to evaluate the Medicare Care Management for High Cost Beneficiaries demonstration (CMHCB). This demonstration provides an opportunity to test new models of care for Medicare beneficiaries who are high-cost and who have complex chronic conditions with the goals of reducing future costs, improving quality of care and quality of life, and improving beneficiary and provider satisfaction. Form Number: CMS-10202 (OMB#: 0938-NEW); Frequency: Reporting—On occasion; Affected Public: Individuals or Households; Number of Respondents: 3633; Total Annual Responses: 3633; Total Annual Hours: 908.

To obtain copies of the supporting statement and any related forms for the proposed paperwork collections referenced above, access CMS' Web site address at http://www.cms.hhs.gov/PaperworkReductionActof1995, or E-mail your request, including your address, phone number, OMB number, and CMS document identifier, to Paperwork@cms.hhs.gov, or call the Reports Clearance Office on (410) 786-1326.

To be assured consideration, comments and recommendations for the proposed information collections must be received at the address below, no later than 5 p.m. on September 26, 2006. CMS, Office of Strategic Operations and Regulatory Affairs, Division of Regulations Development—C, Attention: Bonnie L Harkless, Room C4-26-05, 7500 Security Boulevard, Baltimore, Maryland 21244-1850.

Dated: July 20, 2006.
Michelle Shortt,
Director, Regulations Development Group, Office of Strategic Operations and Regulatory Affairs.

[FR Doc. E6-12036 Filed 7-27-06; 8:45 am]

BILLING CODE 4120-01-P